DEPARTMENT OF HOMELAND SECURITY

Coast Guard

[USCG-2007-27066]

Commercial Fishing Industry Vessel Safety Advisory Committee; Vacancies

AGENCY: Coast Guard, DHS.

ACTION: Request for applications.

SUMMARY: The Department of Homeland Security is requesting individuals who are interested in serving on the Commercial Fishing Industry Vessel Safety Advisory Committee (CFIVSAC) to apply for appointment to those seats vacated. The CFIVSAC provides advice and makes recommendations to the Coast Guard for improving commercial fishing industry safety practices.

DATES: Applications for membership should reach the Coast Guard at the address below on or before June 1, 2007.

ADDRESSES: You may request an application form by writing to Commandant (CG-3PCV-3), U.S. Coast Guard, 2100 Second Street, SW., Washington, DC 20593-0001; by calling 202-372-1248; or by faxing 202-372-1917. Send your application in written form to the above street address. This notice and the application form are available on the Internet at http://www.FishSafe.info.

FOR FURTHER INFORMATION CONTACT: Captain Michael B. Karr, Executive Director of the CFIVSAC, or Mr. Mike Rosecrans, Assistant to the Executive Director, by telephone at 202-372-1245, fax 202-372-1917, e-mail: Michael.M.Rosecrans@uscg.mil.

SUPPLEMENTARY INFORMATION: The CFIVSAC is an advisory committee established in accordance with the provisions of the Federal Advisory Committee Act (FACA) 5 U.S.C. (Pub. L. 92-463). The Coast Guard chartered the CFIVSAC to provide advice on issues related to the safety of commercial fishing industry vessels regulated under Chapter 45 of Title 46, United States Code, which includes uninspected fishing vessels, fish processing vessels, and fish tender vessels. (See 46 U.S.C. 4508.)

The CFIVSAC consists of 17 members as follows: (a) Ten members from the commercial fishing industry who reflect a regional and representational balance and have experience in the operation of vessels to which Chapter 45 of Title 46, United States Code applies, or as a crew member or processing line member on an uninspected fish processing vessel; (b) one member representing naval architects or marine surveyors; (c) one member representing manufacturers of vessel equipment to which Chapter 45 applies; (d) one member representing education or training professionals related to fishing vessel, fish processing vessels, or fish tender vessel safety, or personnel qualifications; (e) one member representing underwriters that insure vessels to which Chapter 45 applies; and (f) three members representing the general public including, whenever possible, an independent expert or consultant in maritime safety and a member of a national organization composed of persons representing the marine insurance industry.

The members who are representatives of the commercial fishing industry and of the general public will be appointed and serve as Special Government Employees (SGE) as defined in section 202(a) of title 18 United States Code. As candidates for appointment as SGEs, applicants are required to complete Confidential Financial Disclosure Reports (OGE Form 450). The DHS may not release the reports or the information in them to the public except under an order issued by a Federal court or as otherwise provided under the Privacy Act (5 U.S.C. 552a). Applicants can obtain this form by going to the Web site of the Office of Government Ethics (http://www.oge.gov), or by e-mailing Roberto.N.Trevino@uscg.mil. Applications which are not accompanied by a completed OGE Form 450 will not be considered.

The CFIVSAC meets at least once a year. It may also meet for extraordinary purposes. Its subcommittees may gather throughout the year to prepare for meetings or develop proposals for the committee as a whole to address specific problems.

We will consider applications for five positions that expire or become vacant in October 2007 in the following categories: (a) Commercial Fishing Industry (two positions); (b) Underwriter (one position); (c) Education or Training Professionals (one position); and (d) General Public (one position).

Each member serves a 3-year term. Members may serve consecutive terms. All members serve at their own expense and receive no salary from the Federal Government, although travel reimbursement and per diem are provided.

In support of the policy of the Department of Homeland Security on gender and ethic diversity, qualified women and minorities are encouraged to apply for membership.

Dated: January 27, 2007.
J.G. Lantz,
Director of National and International Standards, Assistant Commandant for Prevention.

[FR Doc. E7-1975 Filed 2-6-07; 8:45 am]

BILLING CODE 4910-15-P